DEPARTMENT OF ENERGY

Energy Conservation Program for Consumer Products: Decision and Order Granting a Waiver to the General Electric Company From the Department of Energy Residential Refrigerator and Refrigerator-Freezer Test Procedure (Case No. RF-007)

AGENCY: Office of Energy Efficiency and Renewable Energy, Department of Energy.

ACTION: Decision and Order.

SUMMARY: DOE gives notice of the Decision and Order (Case No. RF-007) that grants to the General Electric Company (GE) a Waiver from the DOE electric refrigerator and refrigerator-freezer test procedure, for its product line containing relative humidity sensors and adaptive control anti-sweat heaters. Under today's Decision and Order, GE shall be required to test and rate its refrigerator-freezers with adaptive control anti-sweat heaters according to an alternate test procedure that takes this technology into account when measuring energy consumption.

DATES: This Decision and Order is effective February 19, 2008, and will remain in effect until the effective date of a DOE final rule prescribing an amended test procedure appropriate for the model series of GE refrigerator-freezers covered by this waiver.

FOR FURTHER INFORMATION CONTACT: Dr. Michael G. Raymond, U.S. Department of Energy, Building Technologies Program, Mailstop EE-2J, 1000 Independence Avenue, SW., Washington, DC 20585-0121. Telephone: (202) 586-9611, E-mail: Michael.Raymond@ee.doe.gov; Francine Pinto, or Eric Stas, U.S. Department of Energy, Office of General Counsel, Mail Stop GC-72, 1000 Independence Avenue, SW., Washington, DC 20585-0103, (202) 586-9507; e-mail: Francine.Pinto@hq.doe.gov or Eric.Stas@hq.doe.gov.

SUPPLEMENTARY INFORMATION: In accordance with 10 CFR 430.27(l), DOE gives notice of the issuance of its Decision and Order as set forth below. In the Decision and Order, DOE grants to GE a Waiver from the applicable residential refrigerator and refrigerator-freezer test procedures, at 10 CFR part 430 subpart B, appendix A1, for its product line of refrigerator-freezers with relative humidity sensors and adaptive control anti-sweat heaters, provided that GE tests and rates such products to the alternate test procedure described in this notice. Today's decision requires that GE may not make any representations concerning the energy efficiency of these products unless such product has been tested in accordance with the DOE test procedure, consistent with the provisions and restrictions in the alternate test procedure set forth in the Decision and Order below, and such representation fairly discloses the results of such testing.¹ (42 U.S.C. 6293(c))

¹ Consistent with the statute, distributors, retailers, and private labelers are held to the same standard when making representations regarding the energy efficiency of these products. (42 U.S.C. 6293(c))

Issued in Washington, DC, on February 19, 2008.
Alexander A. Karsner,
Assistant Secretary, Energy Efficiency and Renewable Energy.

Decision and Order

In the Matter of: General Electric Company. (Case No. RF-007).

Background

Title III of the Energy Policy and Conservation Act (EPCA) sets forth a variety of provisions concerning energy efficiency. Part A ² of Title III provides for the “Energy Conservation Program for Consumer Products Other Than Automobiles.” (42 U.S.C. 6291-6309) Part A includes definitions, test procedures, labeling provisions, energy conservation standards, and the authority to require information and reports from manufacturers. Further, Part A authorizes the Secretary of Energy to prescribe test procedures that are reasonably designed to produce results which measure energy efficiency, energy use, or estimated operating costs, and that are not unduly burdensome to conduct. (42 U.S.C. 6293(b)(3))

² Part B of Title III of EPCA was repealed by Pub. L. 109-58 and redesignated Part A.

Today's notice involves residential products under Part A. Relevant to the current Petition for Waiver, the test procedure for residential electric refrigerator-freezers is contained in 10 CFR part 430, subpart B, Appendix A1.

DOE's regulations contain provisions allowing a person to seek a waiver from the test procedure requirements for covered consumer products, when the petitioner's basic model contains one or more design characteristics that prevent testing according to the prescribed test procedures, or when the prescribed test procedures may evaluate the basic model in a manner so unrepresentative of its true energy consumption characteristics as to provide materially inaccurate comparative data. 10 CFR 430.27(a)(1). Petitioners must include in their petition any alternate test procedures known to evaluate the basic model in a manner representative of its energy consumption characteristics. 10 CFR 430.27(b)(1)(iii).

The Assistant Secretary for Energy Efficiency and Renewable Energy (the Assistant Secretary) may grant a waiver subject to conditions, including adherence to alternate test procedures. 10 CFR 430.27(l). In general, a waiver will remain in effect until final test procedure amendments that resolve the problem that is the subject of the waiver become effective. 10 CFR 430.27(m).

The waiver process also allows any interested person who has submitted a Petition for Waiver to file an Application for Interim Waiver of the applicable test procedure requirements. 10 CFR 430.27(a)(2). The Assistant Secretary will grant an Interim Waiver request if it is determined that the applicant will experience economic hardship if the Interim Waiver is denied, if it appears likely that the Petition for Waiver will be granted, and/or the Assistant Secretary determines that it would be desirable for public policy reasons to grant immediate relief pending a determination on the Petition for Waiver. 10 CFR 430.27(g).

On November 18, 2006, GE filed a Petition for Waiver from the test procedures which are applicable to its product line of refrigerator-freezers with relative humidity sensors and adaptive control anti-sweat heaters. The applicable test procedures are contained in 10 CFR part 430, subpart B, appendix A1—Uniform Test Method for Measuring the Energy Consumption of Electric Refrigerators and Electric Refrigerator-Freezers. GE is designing new refrigerator-freezers that contain variable anti-sweat heater controls and relative humidity sensors that detect and respond to a broad range of temperature and humidity conditions, and then activate adaptive heaters as needed to evaporate excess moisture. GE's alternate test procedure simulates the energy used by the adaptive heaters in a typical consumer household. Because the existing test procedure under 10 CFR part 430 takes neither ambient humidity nor adaptive technology into account, it does not accurately measure the energy consumption of GE's new refrigerator-freezers that feature humidity sensors and adaptive control anti-sweat heaters. Consequently, GE has submitted an alternate test to DOE for approval to ensure that it is correctly calculating the energy consumption of this new product line.

On April 17, 2007, DOE published GE's Petition for Waiver. 72 FR 19189. DOE received one comment on the GE petition, from the Association of Home Appliance Manufacturers (AHAM), which is discussed below.

Assertions and Determinations

GE's Petition for Waiver

On November 18, 2006, GE submitted a Petition for Waiver from the test procedures applicable to residential electric refrigerator-freezers.³ GE's petition asserts that the energy use for its refrigerator-freezers with relative humidity sensors, variable anti-sweat heater controls and adaptive heaters cannot be accurately tested using the current test procedure because these products will yield a different test result for energy consumption depending on the ambient relative humidity in the test chamber. The current DOE test procedure does not specify a value for the relative humidity in the test chamber. GE included an alternate test procedure with its petition, in which it proposed to “run the energy-consumption test with the anti-sweat heater switch in the `off' position and then, because the test chamber is not humidity-controlled, to add to that result the kilowatt hours per day derived by calculating the energy used when the anti-sweat heater is in the `on' position.” (GE Petition, page 4.) According to GE, the objective of this approach is to simulate the average energy used by the adaptive anti-sweat heaters ⁴ as activated in typical consumer households across the United States. (Id.) To determine the conditions in a typical consumer household, DOE understands that GE compiled historical data for the monthly average outdoor temperature and humidity for the top 50 metropolitan areas of the U.S. over approximately the last 30 years. Then, GE used the average exterior monthly temperature and humidity values to determine in-home conditions. In addition, GE included in the test procedure a “system-loss factor” to calculate system losses attributed to operating anti-sweat heaters, controls, and related components. This factor includes the additional energy required to operate the anti-sweat heater controls and related components, and the additional energy required to increase compressor run time to remove heat introduced into the refrigerator-freezer compartments by the anti-sweat heater. This “System-loss Factor,” based on GE's historical experience, is 1.3.

³ GE's petition uses the terms “refrigerator” and “refrigerator-freezer” interchangeably. The specific models that are the subject of this waiver are refrigerator-freezers.

⁴ Anti-sweat heaters remove moisture that condenses on the cabinet of refrigerator-freezers. They consume a significant amount of energy in doing this, and GE's technology is designed to use less anti-sweat energy, by activating the heaters only when needed.

AHAM (a trade organization representing the manufacturers of refrigerator-freezers) supported DOE granting GE's petition and also supported GE's alternate test procedure. AHAM commented that there might be a need for a different heat load multiplier for other types of internal heaters that might be the subject of future petitions. (AHAM, No. 1 at page 1)

Consultations With Other Agencies

DOE consulted with the Federal Trade Commission (FTC) staff concerning the GE Petition for waiver. The FTC staff did not have any objections to granting a waiver to GE.

Conclusion

After careful consideration of all the material that was submitted by GE, the comment received, the review by the National Institute of Standards and Technology, and consultation with the FTC staff, it is ordered that:

(1) The “Petition for Waiver” submitted by the General Electric Company (Case No. RF-007) is hereby granted as set forth in the paragraphs below.

(2) GE shall not be required to test or rate the following GE models, which have GE's new humidity sensor and adaptive anti-sweat heater technology, on the basis of the current test procedures contained in 10 CFR part 430, subpart B, appendix A1, but shall be required to test and rate such products according to the alternate test procedure as set forth in paragraph (3) below: PGCS1NJW, PGCS1NFW, PGSS5NJW, PGSS5NFW, PGCF1NJW, PGCF1NFW, PGSF5NJW, PGSF5NFW, PFIC1NFW and PFIC1NFX:

(3) GE shall be required to test the products listed in paragraph (2) above according to the test procedures for electric refrigerator-freezers prescribed by DOE at 10 CFR part 430, appendix A1, except that, for the GE products listed in paragraph (2) only:

(A) The following definition is added at the end of Section 1:

1.13 “Variable anti-sweat heater control” means an anti-sweat heater where power supplied to the device is determined by an operating condition variable(s) and/or ambient condition variable(s).

(B) Section 2.2 is revised to read as follows:

2.2 Operational conditions. The electric refrigerator or electric refrigerator-freezer shall be installed and its operating conditions maintained in accordance with HRF-1-1979, section 7.2 through section 7.4.3.3. except that the vertical ambient temperature gradient at locations 10 inches (25.4 cm) out from the centers of the two sides of the unit being tested is to be maintained during the test. Unless shields or baffles obstruct the area, the gradient is to be maintained from 2 inches (5.1 cm) above the floor or supporting platform to a height one foot (30.5 cm) above the unit under test. Defrost controls are to be operative. The anti-sweat heater switch is to be “off” during one test and “on” during the second test. In the case of an electric refrigerator-freezer equipped with variable anti-sweat heater control, the “on” test will be the result of the calculation described in 6.2.3. Other exceptions are noted in 2.3, 2.4, and 5.1 below.

(C) New section 6.2.3 is inserted after section 6.2.2.2.

6.2.3 Variable anti-sweat heater control test. The energy consumption of an electric refrigerator-freezer with a variable anti-sweat heater control in the “on” position (Eon), expressed in kilowatt-hours per day, shall be calculated equivalent to:

EON = E + (Correction Factor)

where E is determined by 6.2.1.1, 6.2.1.2, 6.2.2.1, or 6.2.2.2, whichever is appropriate, with the anti-sweat heater switch in the “off” position.

Correction Factor = (Anti-sweat Heater Power × System-loss Factor) × (24 hrs/1 day) × (1 kW/1000 W)

Where:

Anti-sweat Heater Power

= A1 * (Heater Watts at 5%RH)

+ A2 * (Heater Watts at 15%RH)

+ A3 * (Heater Watts at 25%RH)

+ A4 * (Heater Watts at 35%RH)

+ A5 * (Heater Watts at 45%RH)

+ A6 * (Heater Watts at 55%RH)

+ A7 * (Heater Watts at 65%RH)

+ A8 * (Heater Watts at 75%RH)

+ A9 * (Heater Watts at 85%RH)

+ A10 * (Heater Watts at 95%RH)

where A1-A10 are from the following table:

A1 = 0.034

A2 = 0.211

A3 = 0.204

A4 = 0.166

A5 = 0.126

A6 = 0.119

A7 = 0.069

A8 = 0.047

A9 = 0.008

A10 = 0.015

Heater Watts at a specific relative humidity = the nominal watts used by all heaters at that specific relative humidity, 72 °F ambient, and DOE reference temperatures of fresh food (FF) average temperature of 45 °F and freezer (FZ) average temperature of 5 °F.

System-loss Factor = 1.3

(4) Representations. GE may make representations about the energy use of its adaptive control anti-sweat heater refrigerator-freezer products, for compliance, marketing, or other purposes, only to the extent that such products have been tested in accordance with the provisions outlined above, and such representations fairly disclose the results of such testing.

(5) This waiver shall remain in effect from the date this Decision and Order is issued until DOE prescribes final test procedures appropriate to the above model series manufactured by GE.

(6) This waiver is conditioned upon the presumed validity of statements, representations, and documentary materials provided by the petitioner. This waiver may be revoked or modified at any time upon a determination that the factual basis underlying the Petition for Waiver is incorrect, or DOE determines that the results from the alternate test procedure are unrepresentative of the basic models' true energy consumption characteristics.

Issued in Washington, DC, on February 19, 2008.
Alexander A. Karsner,
Assistant Secretary, Energy Efficiency and Renewable Energy.

[FR Doc. E8-3686 Filed 2-26-08; 8:45 am]

BILLING CODE 6450-01-P